DEPARTMENT OF ENERGY

Federal Energy Regulatory Commission

Combined Notice of Filings #1

Take notice that the Commission received the following electric rate filings:

Docket Numbers: ER10-2290-008.

Applicants: Avista Corporation.

Description: Notice of Non-Material Change in Status of Avista Corporation.

Filed Date: 1/19/21.

Accession Number: 20210119-5143.

Comments Due: 5 p.m. ET 2/9/21.

Docket Numbers: ER10-2912-007.

Applicants: Alliance for Cooperative Energy Services Power Marketing LLC.

Description: Notice of Non-Material Change in Status of Alliance for Cooperative Energy Services Power Marketing LLC.

Filed Date: 1/19/21.

Accession Number: 20210119-5102.

Comments Due: 5 p.m. ET 2/9/21.

Docket Numbers: ER20-181-001.

Applicants: Cimarron Windpower II, LLC.

Description: Compliance filing: Amendment Tariff Filing—Corrections to be effective 3/21/2021.

Filed Date: 1/19/21.

Accession Number: 20210119-5178.

Comments Due: 5 p.m. ET 2/9/21.

Docket Numbers: ER20-182-001.

Applicants: Ironwood Windpower, LLC.

Description: Compliance filing: Amendment Tariff Filing—Corrections to be effective 3/21/2021.

Filed Date: 1/19/21.

Accession Number: 20210119-5190.

Comments Due: 5 p.m. ET 2/9/21.

Docket Numbers: ER20-183-001.

Applicants: Caprock Solar I LLC.

Description: Compliance filing: Amendment Tariff Filing—Corrections to be effective 3/21/2021.

Filed Date: 1/19/21.

Accession Number: 20210119-5197.

Comments Due: 5 p.m. ET 2/9/21.

Docket Numbers: ER20-184-001.

Applicants: Frontier Windpower, LLC.

Description: Compliance filing: Amendment Tariff Filing—Corrections to be effective 3/21/2021.

Filed Date: 1/19/21.

Accession Number: 20210119-5185.

Comments Due: 5 p.m. ET 2/9/21.

Docket Numbers: ER20-1832-001.

Applicants: Duke Energy Ohio, Inc., Duke Energy Kentucky, Inc., PJM Interconnection, L.L.C.

Description: Compliance filing: DEOK submits Deficiency Letter re: Order 864 in ER20-1832 to be effective 1/27/2020.

Filed Date: 1/15/21.

Accession Number: 20210115-5207.

Comments Due: 5 p.m. ET 2/5/21.

Docket Numbers: ER20-2597-002; ER20-1991-002; ER20-2153-003; ER20-2380-002.

Applicants: Soldier Creek Wind, LLC, Ponderosa Wind, LLC, Sanford Airport Solar, LLC, Saint Solar, LLC.

Description: Notice of Non-Material Change in Status of Soldier Creek Wind, LLC, et. al.

Filed Date: 1/15/21.

Accession Number: 20210115-5247.

Comments Due: 5 p.m. ET 2/5/21.

Docket Numbers: ER21-903-000.

Applicants: BIF III Holtwood LLC, Brookfield Power Piney & Deep Creek LLC, Safe Harbor Water Power Corporation.

Description: Requests for Waiver, et al. of BIF III Holtwood LLC, et al.

Filed Date: 1/15/21.

Accession Number: 20210115-5157.

Comments Due: 5 p.m. ET 2/5/21.

Docket Numbers: ER21-908-000.

Applicants: Western Aeon Energy Trading LLC.

Description: Baseline eTariff Filing: Baseline new to be effective 2/1/2021.

Filed Date: 1/15/21.

Accession Number: 20210115-5170.

Comments Due: 5 p.m. ET 2/5/21.

Docket Numbers: ER21-909-000.

Applicants: American Electric Power Service Corporation, Appalachian Power Company, PJM Interconnection, L.L.C.

Description: § 205(d) Rate Filing: AEP submits ILDSA, SA No. 1252 and Skimmer Facilities Agreement to be effective 1/29/2021.

Filed Date: 1/15/21.

Accession Number: 20210115-5183.

Comments Due: 5 p.m. ET 2/5/21.

Docket Numbers: ER21-910-000.

Applicants: Potomac Electric Power Company, PJM Interconnection, L.L.C.

Description: § 205(d) Rate Filing: Construction Agreement SA No. 5933 between Pepco and SMECO to be effective 10/23/2020.

Filed Date: 1/15/21.

Accession Number: 20210115-5189.

Comments Due: 5 p.m. ET 2/5/21.

Docket Numbers: ER21-911-000.

Applicants: Montana-Dakota Utilities Co.

Description: § 205(d) Rate Filing: Updated Seller Category and Market Power Analysis, ER19-1217-002, ER10-3199-005 to be effective 1/16/2021.

Filed Date: 1/15/21.

Accession Number: 20210115-5206.

Comments Due: 5 p.m. ET 2/5/21.

Docket Numbers: ER21-912-000.

Applicants: Louisville Gas and Electric Company, Kentucky Utilities Company.

Description: Notice of Cancellation of First Revised Rate Schedule No. 402 of Louisville Gas and Electric Company, et al.

Filed Date: 1/15/21.

Accession Number: 20210115-5229.

Comments Due: 5 p.m. ET 2/5/21.

Docket Numbers: ER21-913-000.

Applicants: Alabama Power Company.

Description: § 205(d) Rate Filing: RE Sumter (Lacrosse Road Solar) LGIA Amendment Filing to be effective 12/18/2020.

Filed Date: 1/19/21.

Accession Number: 20210119-5093.

Comments Due: 5 p.m. ET 2/9/21.

Docket Numbers: ER21-914-000.

Applicants: Tenaska Pennsylvania Partners, LLC.

Description: § 205(d) Rate Filing: Filing of Non-Substantive Rate Schedule Revision to be effective 11/1/2019.

Filed Date: 1/19/21.

Accession Number: 20210119-5147.

Comments Due: 5 p.m. ET 2/9/21.

Docket Numbers: ER21-915-000.

Applicants: Entergy Arkansas, LLC.

Description: § 205(d) Rate Filing: EAL-MSS-4 Replacement Tariff to be effective 3/20/2021.

Filed Date: 1/19/21.

Accession Number: 20210119-5191.

Comments Due: 5 p.m. ET 2/9/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 19, 2021.
Nathaniel J. Davis, Sr.,
Deputy Secretary.

[FR Doc. 2021-01658 Filed 1-25-21; 8:45 am]

BILLING CODE 6717-01-P